SOCIAL SECURITY ADMINISTRATION

[Docket No. SSA-2018-0012]

Privacy Act of 1974; System of Records

AGENCY: Office of Analytics, Review, and Oversight, Social Security Administration (SSA).

ACTION: Notice of a new system of records.

SUMMARY: In accordance with the Privacy Act, we are issuing public notice of our intent to establish a new system of records entitled, Anti-Fraud Enterprise Solution (AFES) (60-0388), hereinafter called the AFES Record System. The AFES Record System is an agency-wide and overarching system that includes the ability to detect, prevent, and mitigate fraud in SSA's programs. The AFES Record System will collect and maintain personally identifiable information (PII) to assist in identifying suspicious or potentially fraudulent activities performed by individuals across all the agency's programs and service delivery methods. This notice publishes details of the system as set forth under the caption, SUPPLEMENTARY INFORMATION.

DATES: The system of records notice (SORN) is applicable upon its publication in today's Federal Register, with the exception of the routine uses, which are effective June 4, 2018. We invite public comment on the routine uses or other aspects of this SORN. In accordance with 5 U.S.C. 552a(e)(4) and (e)(11), the public is given a 30-day period in which to submit comments. Therefore, please submit any comments by June 4, 2018.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov, please reference docket number SSA-2018-0012. All comments we receive will be available for public inspection at the above address and we will post them to http://www.regulations.gov.

FOR FURTHER INFORMATION CONTACT: Neil Etter, Government Information Specialist, Privacy Implementation Division, Office of Privacy and Disclosure, Office of the General Counsel, SSA, Room G-401 West High Rise, 6401 Security Boulevard, Baltimore, Maryland 21235-6401, telephone: (410) 965-8028, email: Neil.Etter@ssa.gov.

SUPPLEMENTARY INFORMATION: We are establishing the AFES Record System to support our objectives that will “Strengthen the Integrity of Our Programs,” specifically to protect the public's data, provide secure online services, and increase payment accuracy. The AFES Record System will provide us with access to a single repository of data that currently resides across many different SSA systems of records. We will use the PII in the AFES Record System to employ advanced data analytics solutions to identify patterns indicative of fraud, improve the functionality of data-driven fraud activations, conduct real-time risk analysis, and integrate developing technology into our anti-fraud business processes. This solution will also provide true business intelligence to agency leadership with assistance in data-driven anti-fraud decision-making. We will use the records in the AFES Record System to detect indications of fraud in all SSA's programs and operations initiated by individuals outside of SSA or internal to SSA (e.g., SSA employees).

In accordance with 5 U.S.C. 552a(r), we provided a report to OMB and Congress on this new system of records.

Dated: February 14, 2018.
Mary Ann Zimmerman,
Acting Executive Director, Office of Privacy and Disclosure, Office of the General Counsel.

SYSTEM NAME AND NUMBER

Anti-Fraud Enterprise Solution (AFES), 60-0388.

SECURITY CLASSIFICATION:

Unclassified.

SYSTEM LOCATION:

Social Security Administration, Office of Analytics, Review, and Oversight, Office of Anti-Fraud Programs, Robert M. Ball Building, 6401 Security Boulevard, Baltimore, MD 21235.

SYSTEM MANAGER(S):

Chief Fraud Prevention Officer, Social Security Administration, Office of Analytics, Review, and Oversight, Office of Anti-Fraud Programs, Robert M. Ball Building, 6401 Security Boulevard, Baltimore, MD 21235, dcaro.oafp.controls@ssa.gov.

AUTHORITY FOR MAINTENANCE OF THE SYSTEM:

General authority to maintain the system is contained in Sections 205(a) and 702(a)(5) of the Social Security Act, as amended (42 U.S.C. 405(a) and 902(a)(5)), and the Fraud Reduction and Data Analytics Act of 2015 (Pub. L. 114-186).

PURPOSE(S) OF THE SYSTEM:

The records maintained in the AFES Record System are necessary to detect, prevent, mitigate, and track the likelihood of fraudulent activity in SSA's programs and operations. We will use the AFES Record System to identify patterns of fraud and to improve data-driven fraud activations and real-time analysis. We may use the results of these data analysis activities, including fraud leads and vulnerabilities, in our fraud investigations and other activities to support program and operational improvements.

CATEGORIES OF INDIVIDUALS COVERED BY THE SYSTEM:

This system covers individuals who are relevant to suspicious or potentially fraudulent activities connected with Social Security programs and operations, including but not limited to the subjects of an investigation, Social Security applicants and beneficiaries, representative payees, appointed representatives, complainants, key witnesses, and current or former employees, contractors, or agents.

CATEGORIES OF RECORDS IN THE SYSTEM:

We will collect and maintain information in connection with our review of all suspicious or potentially fraudulent activities in Social Security programs and operations. We will also collect and maintain SSA and Non-SSA breach information, including data generated internally or received from businesses with whom SSA has a relationship or government entities or partners.

The AFES Record System includes records on individuals that it obtains from other SSA systems of records and will maintain information such as:

Enumeration Information: This information may include name, Social Security number (SSN), date of birth, parent name(s), address, and place of birth.

Earnings Information: This information may include yearly earnings and quarters of coverage information.

Social Security Benefit Information: This information may include disability status, benefit payment amount, data relating to the computation, appointed representative, and representative payee.

Representative Payee Information: This information may include names, SSNs, and addresses of representative payees and relationship with the beneficiary.

Persons Conducting Business With Us Through Electronic Services: This information may include name, address, date of birth, SSN, knowledge-based authentication data, and blocked accounts.

Employee Information: This information may include personal identification number (PIN), employee name, job title, SSN about our employees, contractors, or agents.

RECORD SOURCE CATEGORIES:

We obtain information in this system from individuals (i.e., the public and SSA staff), other Government agencies, and private entities. The largest record sources for the AFES Record System is information the agency collects and maintains for purposes related to other business processes that have established systems of records, such as the Master Files of SSN Holders and SSN Applications (60-0058), the Claims Folders Systems (60-0089), the Master Beneficiary Record (60-0090), the Supplemental Security Income Record and Special Veterans Benefits (60-0103), the Personal Identification Number File (60-0214), the Master Representative Payee File (60-0222), and the Central Repository of Electronic Authentication Data Master File (60-0373). The AFES Record System may pull any relevant information from any SSA system of records. For a full listing of our system of records notices that could provide information to the AFES Record System, please see the Privacy Program section of SSA's website.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, the Internal Revenue Service (IRS), or IRS regulations.

1. To any agency, person, or entity in the course of an SSA investigation to the extent necessary to obtain or to verify information pertinent to an SSA fraud investigation.

2. To a congressional office in response to an inquiry from that office made on behalf of, and at the request of, the subject of the record or a third party acting on the subject's behalf.

3. To the Office of the President in response to an inquiry received from that office made on behalf of, and at the request of, the subject of record or a third party acting on the subject's behalf.

4. To the Department of Justice (DOJ), a court or other tribunal, or another party before such court or tribunal, when:

(a) SSA, or any component thereof; or

(b) any SSA employee in his/her official capacity; or:

(c) any SSA employee in his/her individual capacity where DOJ (or SSA where it is authorized to do so) has agreed to represent the employee; or

(d) the United States or any agency thereof where SSA determines the litigation is likely to SSA or any of its components,

is a party to the litigation or has an interest in such litigation, and SSA determines that the use of such records by DOJ, a court or other tribunal, or another party before the tribunal is relevant and necessary to the litigation, provided, however, that in each case, the agency determines that disclosure of the records to DOJ, court or other tribunal, or another party is a use of the information contained in the records that is compatible with the purpose for which the records were collected.

5. To contractors and other Federal agencies, as necessary, for the purpose of assisting SSA in the efficient administration of its programs. We will disclose information under this routine use only in situations in which SSA may enter into a contractual or similar agreement with a third party to assist in accomplishing an agency function relating to this system of records.

6. To student volunteers, individuals working under a personal services contract, and other workers who technically do not have the status of Federal employees, when they are performing work for SSA, as authorized by law, and they need access to PII in SSA records in order to perform their assigned agency functions.

7. To Federal, State, and local law enforcement agencies and private security contractors, as appropriate, information necessary:

(a) To enable them to protect the safety of SSA employees and customers, the security of the SSA workplace, and the operation of SSA facilities, or

(b) to assist in investigations or prosecutions with respect to activities that affect such safety and security or activities that disrupt the operation of SSA facilities.

8. To the National Archives and Records Administration (NARA) under 44 U.S.C. 2904 and 2906.

9. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

10. To another Federal agency or Federal entity, when SSA determines that information from this system of records is reasonably necessary to assist the recipient agency or entity in:

(a) Responding to suspected or confirmed breach; or

(b) preventing, minimizing, or remedying the risk of harm to individuals, the recipient agency or entity (including its information systems, programs, and operations), the Federal Government, or national security, resulting from a suspected or confirmed breach.

11. To the Equal Employment Opportunity Commission when requested in connection with investigation into alleged or possible discriminatory practices in the Federal sector, examination of Federal affirmative employment programs, compliance by Federal agencies with the Uniform Guidelines on Employee Selection Procedures, or other functions vested in the Commission.

12. To the Office of Personnel Management, Merit Systems Protection Board, or the Office of Special Counsel in connection with appeals, special studies of the civil service and other merit systems, review of rules and regulations, investigations of alleged or possible prohibited personnel practices, and other such functions promulgated in 5 U.S.C. Chapter 12, or as may be required by law.

13. To the Federal Labor Relations Authority, the Office of the Special Counsel, the Federal Mediation and Conciliation Service, the Federal Service Impasses Panel, or an arbitrator requesting information in connection with the investigations of allegations of unfair practices, matters before an arbitrator or the Federal Service Impasses Panel.

POLICIES AND PRACTICES FOR STORAGE OF RECORDS:

We will maintain records in this system in paper and electronic form.

POLICIES AND PRACTICES FOR RETRIEVAL OF RECORDS:

We will retrieve records by the individual's name, SSN, as well as internal transaction identifiers (e.g., transaction identification for the Internet Claim application, transaction identification for an electronic online Direct Deposit change, etc.). Information from these retrieved records that matches across other agency systems of records will also create a linkage to retrieve those records, because the system is able to show key connections or overlaps based on similar information stored in different data sources at the agency.

POLICIES AND PRACTICES FOR RETENTION AND DISPOSAL OF RECORDS:

These records are currently unscheduled. We will retain the records in accordance with NARA approved records schedules. In accordance with NARA rules codified at 36 CFR 1225.16, we maintain unscheduled records until NARA approves an agency-specific records schedule or publishes a corresponding General Records Schedule.

ADMINISTRATIVE, TECHNICAL, AND PHYSICAL SAFEGUARDS:

We retain electronic and paper files containing personal identifiers in secure storage areas accessible only by our authorized employees who have a need for the information when performing their official duties. Security measures include, but are not limited to, the use of codes and profiles, personal identification number and password, and personal identification verification cards. We restrict access to specific correspondence within the system based on assigned roles and authorized users. We maintain electronic files with personal identifiers in secure storage areas. We will use audit mechanisms to record sensitive transactions as an additional measure to protect information from unauthorized disclosure or modification. We keep paper records in cabinets within secure areas, with access limited to only those employees who have an official need for access in order to perform their duties.

We annually provide our employees and contractors with appropriate security awareness training that includes reminders about the need to protect PII and the criminal penalties that apply to unauthorized access to, or disclosure of PII. See 5 U.S.C. 552a(i)(1). Furthermore, employees and contractors with access to databases maintaining PII must annually sign a sanction document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) A notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

None.

[FR Doc. 2018-09362 Filed 5-2-18; 8:45 am]

BILLING CODE P